DEPARTMENT OF HEALTH AND HUMAN SERVICES

Centers for Disease Control and Prevention

Lead Exposure and Prevention Advisory Committee (LEPAC); Correction

Notice is hereby given of a change in the date for the solicitation of nominations for appointment to the Lead Exposure and Prevention Advisory Committee (LEPAC); December 15, 2021 which was published in the Federal Register on October 28, 2020 Volume 85, Number 209, pages 68328-68329.

The notice should read as follows:

DATES: Nominations for membership on the LEPAC must be received no later than November 27, 2020. Packages received after this time will not be considered for the current membership cycle.

ADDRESSES: All nominations should be emailed to LEPAC@cdc.gov.

FOR FURTHER INFORMATION CONTACT: Ms. Perri Ruckart, M.P.H., Designated Federal Officer, National Center for Environmental Health, CDC, 4770 Buford Highway, Atlanta, GA 30341, 770-488-3300, PRuckart@cdc.gov.

SUPPLEMENTARY INFORMATION: The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-24507 Filed 11-4-20; 8:45 am]

BILLING CODE 4163-18-P